DEPARTMENT OF THE INTERIOR

Bureau of Indian Affairs

[256A2100DD/AAKC001030/A0A501010.999900]

Land Acquisitions; Koi Nation of Northern California, Shiloh Site, Sonoma County, California

AGENCY: Bureau of Indian Affairs, Interior.

ACTION: Notice.

SUMMARY: The Director, Bureau of Indian Education, exercising authority by delegation of the Assistant Secretary—Indian Affairs, made a final agency determination to acquire in trust 68.60 acres, more or less, of land known as the Shiloh Site in Sonoma County, California, for the Koi Nation of Northern California for gaming and other purposes.

DATES: This final determination was made January 13, 2025.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: On the date listed in the DATES section of this notice, the Director, Bureau of Indian Education, exercising authority by delegation of the Assistant Secretary—Indian Affairs, made a final agency determination to acquire the Shiloh Site (Site), consisting of 68.60 acres, more or less, in trust for the Koi Nation of Northern California under the authority of the section 20 of the Indian Gaming Regulatory Act, 25 U.S.C. 2719 (b)(1)(B)(iii).

The Director, Bureau of Indian Education, exercising authority by delegation of the Assistant Secretary—Indian Affairs, on behalf of the Secretary of the Interior, will immediately acquire the title to the Site in the name of the United States of America in trust for the Koi Nation of Northern California upon fulfillment of all Departmental requirements. The 68.60 acres, more or less, are described as follows:

Legal Description of Property

For APN/Parcel ID(s): 059-300-003-000

The land referred to herein below is situated in the unincorporated area in County of Sonoma, State of California and is described as follows:

Being a tract of land in Section 20, Township 8 North, Range 8 West, M.D.B. and M. and beginning at a iron pin which marks the ¼ section corner between Sections 19 and 20; thence East along the Northerly line of the Southwest ¼ of said Section 20, a distance of 40.00 chains, more or less, to the center of Section 20; thence South, along the Easterly line of said Southwest ¼, 17.01 chains, more or less, to the Northeast corner of a tract of land conveyed by Elisha C. Mayo to Charles T. Mathisen and Cynthia E. Mathisen, his wife, by Deed dated January 28, 1905 in Book 216 of Deeds at Page 298, Sonoma County Records; thence South 76° 15′ West, along the Northerly boundary of said tract of land conveyed to said Mathison, 25.69 chains, more or less, to the center of the State Highway leading from Santa Rosa to Healdsburg; thence Northwesterly along the center of said State Highway, 26.85 chains, more or less, to the section line between Section 19 and 20; thence North along said section line, 1.62 chains, more or less, to the point of beginning.

Excepting therefrom that portion thereof conveyed to the County of Sonoma by deed recorded April 25, 1950 in Book 955 at Page 376, Sonoma County Records.

Also excepting therefrom that portion conveyed to the County of Sonoma by Deed recorded October 27, 2006 as Instrument No. 2006132956, of Official Records.

Authority: This notice is published in the exercise of authority delegated by the Secretary of the Interior to the Assistant Secretary—Indian Affairs by the Departmental Manual in part 209, chapter 8, paragraph 8.1 and is published to comply with the requirements of 25 CFR 151.13 (c)(2)(ii) that notice of the decision to acquire land in trust be promptly provided in the Federal Register.

Tony Dearman,
Director, Bureau of Indian Education,Exercising authority by delegation of the Assistant Secretary—Indian Affairs.

[FR Doc. 2025-01083 Filed 1-16-25; 8:45 am]

BILLING CODE 4337-15-P